DEPARTMENT OF THE TREASURY

Submission for OMB Review; Comment Request

February 22, 2013.

The Department of the Treasury will submit the following information collection request to the Office of Management and Budget (OMB) for review and clearance in accordance with the Paperwork Reduction Act of 1995, Public Law 104-13, on or after the date of publication of this notice.

DATES: Comments should be received on or before March 29, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Alcohol and Tobacco Tax and Trade Bureau (TTB)

OMB Number: 1513-0032.

Type of Review: Extension.

Title: Inventory—Manufacturer of Tobacco Products, Processed Tobacco, or Cigarette Papers and Tubes.

Form: TTB F 5210.9.

Abstract: This form is necessary to determine the beginning and ending inventories of tobacco products and processed tobacco at the premises of a tobacco products or processed tobacco manufacturer. The information is recorded on this form by the proprietor and is used to determine tax liability, compliance with regulations, and for protection of the revenue.

Affected Public: Private Sector: Businesses or other for-profits.

Estimated Total Burden Hours: 386.

OMB Number: 1513-0033.

Type of Review: Extension.

Title: Report—Manufacturer of Tobacco Products or Cigarette Papers and Tubes and Report—Manufacturer of Processed Tobacco.

Form: TTB F 5250.1, TTB F 5210.5.

Abstract: Manufacturers account for their taxable articles on this report. TTB uses this information to ensure that taxes have been properly paid, Federal laws and regulations are compiled with, and to prevent diversion.

Affected Public: Private Sector: Businesses or other for-profits.

Estimated Total Burden Hours: 4,632.

OMB Number: 1513-0035.

Type of Review: Extension.

Title: Inventory—Export Warehouse Proprietor.

Form: TTB F 5220.3.

Abstract: TTB F 5220.3 is used by export warehouse proprietors to record inventories that are required by law and regulations.

Affected Public: Private Sector: Businesses or other for-profits.

Estimated Total Burden Hours: 400.

OMB Number: 1513-0052.

Type of Review: Revision.

Title: Alcohol Fuel Plants (AFP) Records, Reports, and Notices (REC 5110/10).

Form: TTB F 5110.75.

Abstract: This information is necessary to determine that persons are qualified to produce alcohol for fuel purposes, and to identify such persons; to account for distilled spirits produced, and verify its proper disposition; to keep registrations current; and to evaluate permissible variations from prescribed procedures.

Affected Public: Private Sector: Businesses or other for-profits; farms.

Estimated Total Burden Hours: 2,784.

OMB Number: 1513-0063.

Type of Review: Extension.

Title: Stills: Notices, Registration, and Records (TTB REC 5150/8).

Abstract: The information collection is used to account for and regulate the distillation of distilled spirits to protect the revenue and to provide for identification of distillers.

Affected Public: Private Sector: Businesses or other for-profits.

Estimated Total Burden Hours: 42.

OMB Number: 1513-0064.

Type of Review: Extension.

Title: Importer's Records and Reports (TTB REC 5170/1).

Abstract: This recordkeeping and reporting requirement concerns the records which must be maintained by the importer as well as the applications and notices required to be submitted to TTB. The records are used by TTB to verify that operations are being conducted in compliance with the law and to ensure that all taxes and duties have been paid on imported spirits, thus protecting the revenue.

Affected Public: Private Sector: Businesses or other for-profits.

Estimated Total Burden Hours: 251.

OMB Number: 1513-0068.

Type of Review: Extension.

Title: Records of Operations—Manufacturer of Tobacco Products or Processed Tobacco TTB REC 5210/1.

Abstract: Tobacco products or processed tobacco manufactures must maintain records that provide accountability over the tobacco products or processed tobacco received and produced. These records ensure that each tobacco products or processed tobacco transaction can be traced, and ensure that tax liabilities are totally satisfied.

Affected Public: Private Sector: Businesses or other for-profits.

Estimated Total Burden Hours: 386.

OMB Number: 1513-0070.

Type of Review: Extension.

Title: Tobacco Export Warehouse—Record of Operations TTB REC 5220/1.

Abstract: Tobacco Export Warehouses store untaxpaid tobacco products and processed tobacco until they are exported. Record is used to maintain accountability over these commodities. These records also allow TTB to verify that all commodities have been exported or tax liabilities are satisfied, protecting tax revenues.

Affected Public: Private Sector: Businesses or other for-profits.

Estimated Total Burden Hours: 1.

OMB Number: 1513-0072.

Type of Review: Extension.

Title: Applications and Notices—Manufacturers of Nonbeverage Products (TTB REC 5530/1).

Abstract: Reports (Letterhead Applications and Notices) are submitted by manufacturers of nonbeverage products who are using distilled spirits on which drawback will be claimed. TTB uses these reports to ensure that operations are in compliance with the law, to prevent spirits from being diverted to beverage use, and to protect the revenue.

Affected Public: Private Sector: Businesses or other for-profits.

Estimated Total Burden Hours: 510.

OMB Number: 1513-0077.

Type of Review: Extension.

Title: Records of Things of Value to Retailers, and Occasional Letter Reports from Industry Members Regarding Information on Sponsorships, Advertisements, Promotions, etc., under the FAA Act—TTB REC 5190/1.

Abstract: These records and occasional letter reports are used to show compliance with the provisions of the Federal Alcohol Administration Act which prevents wholesalers, producers, or importers from giving things of value to retail liquor dealers, and prohibit industry members from conducting certain types of sponsorships, advertisings, promotions, etc.

Affected Public: Private Sector: Businesses or other for-profits; Individuals or Households.

Estimated Total Burden Hours: 2,112.

OMB Number: 1513-0078.

Type of Review: Extension.

Title: Application for a Permit as a Manufacture of Tobacco Products or Processed Tobacco or as an Export Warehouse Proprietor; Application for an Amended Permit as a Manufacture of Tobacco Products or Processed Tobacco or an Export Warehouse, et al.

Form: TTB F 5200.16, TTB F 5200.3, TTB F 5230.4, TTB F 5230.5.

Abstract: These forms are used by the tobacco industry members to obtain and amend permits necessary to engage in business as a manufacturer of tobacco products or processed tobacco, or as an export warehouse proprietor.

Affected Public: Private Sector: Businesses or other for-profits; State, Local and Tribal Governments.

Estimated Total Burden Hours: 2,277.

OMB Number: 1513-0093.

Type of Review: Extension.

Title: Application for Extension of Time for Payment of Tax.

Form: TTB 5600.38.

Abstract: TTB uses the information on the form to determine if a taxpayer is qualified to extend the tax payment based on circumstances beyond the taxpayer's control.

Affected Public: Private Sector: Businesses or other for-profits.

Estimated Total Burden Hours: 3.

OMB Number: 1513-0098.

Type of Review: Extension.

Title: Supporting Data for Nonbeverage Drawback Claims.

Form: TTB F 5154.2.

Abstract: Data required to be submitted by manufacturers of nonbeverage products are used to verify claims for drawback of taxes and hence, to protect the revenue. This form is used to verify that all distilled spirits can be accounted for and that drawback is paid only in the amount prescribed by law.

Affected Public: Private Sector: Businesses or other for-profits.

Estimated Total Burden Hours: 3,422.

OMB Number: 1513-0106.

Type of Review: Extension.

Title: Record of Operations—Importer of Tobacco Products or Processed Tobacco.

Abstract: Importers of tobacco products or processed tobacco are required to maintain records of physical receipts and disposition of tobacco products or processed tobacco to be able to prepare TTB Form 5220.6 (a monthly report). Importers of tobacco products and processed tobacco will consist of both large and small businesses that operate for profit.

Affected Public: Private Sector: Businesses or other for-profits.

Estimated Total Burden Hours: 1.

OMB Number: 1513-0107.

Type of Review: Extension.

Title: Monthly Report—Tobacco Products Importer.

Form: TTB F 5220.6.

Abstract: Reports of the importation and disposition of tobacco products and processed tobacco are necessary to determine whether those issued the permits required by 26 U.S.C. Section 5713 should be allowed to continue their operations or renew their permits. This report is also used to determine if tobacco products or processed tobacco are being diverted for illegal purposes and to ensure that holders of basic permits are engaging in the operations stated on their basic permit.

Affected Public: Private Sector: Businesses or other for-profits.

Estimated Total Burden Hours: 14,064.

OMB Number: 1513-0130.

Type of Review: Extension.

Title: Report of Sale or Transfer of Processed Tobacco.

Form: TTB F 5250.2.

Abstract: TTB believes that unregulated transfers or sales of processed tobacco to persons who do not hold TTB permits could lead to processed tobacco falling into the hands of persons who would be unknown and unaccountable to TTB, including illegal manufacturers. In order to better regulate processed tobacco and prevent diversion, TTB requires the filing of a report covering all such transfers or sales. This report is used to protect the revenue.

Affected Public: Private Sector: Businesses or other for-profits.

Estimated Total Burden Hours: 2,337.

Dawn D. Wolfgang,
Treasury PRA Clearance Officer.

[FR Doc. 2013-04513 Filed 2-26-13; 8:45 am]

BILLING CODE 4810-31-P